DEPARTMENT OF LABOR

Employment and Training Administration

[TA-W-40,906]

Quark, Inc., Denver, CO; Notice of Negative Determination Regarding Application for Reconsideration

By application dated on April 11, 2002, a worker of the subject firm requested administrative reconsideration of the Department's negative determination regarding eligibility for workers and former workers of the subject firm to apply for Trade Adjustment Assistance (TAA). The denial notice applicable to workers of Quark, Inc. Denver, Colorado was signed on April 4, 2002, and published in the Federal Register on April 17, 2002 (67 FR 18923).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The TAA petition was filed on behalf of workers at Quark, Inc. Denver, Colorado engaged in activities related to software development. The petition was denied because the petitioning workers did not produce an article within the meaning of section 222(3) of the Act.

In the request for reconsideration, a worker of Quark, Inc. Denver, Colorado alleged that Quark, Inc. Denver, Colorado shifted their operation to India.

The initial investigation revealed that the workers were engaged in activities related to the development of software. The workers at the subject firm do not produce an article within the meaning of section 222(3) of the Trade Act 1974. In any event, a transfer of a firm's operations to a foreign source is not a relevant factor in meeting the eligibility requirements under the Trade Act of 1974. Imports of a product produced by the subject firm must “contribute importantly” to the layoffs at the subject plant.

Conclusion

After review of the application and investigative findings, I conclude that there has been no error or misinterpretation of the law or of the facts which would justify reconsideration of the Department of Labor's prior decision. Accordingly, the application is denied.

Signed at Washington, DC, this 30th day of May, 2002.
Edward A. Tomchick,
Director, Division of Trade Adjustment Assistance.

[FR Doc. 02-14789 Filed 6-11-02; 8:45 am]

BILLING CODE 4510-30-P